SOCIAL SECURITY ADMINISTRATION

[Docket No. SSA-2016-0045]

Charging Standard Administrative Fees for Non-Program Information

AGENCY: Social Security Administration.

ACTION: Notice of updated schedule of standardized administrative fees.

SUMMARY: On August 22, 2012,¹ we announced in the Federal Register a schedule of standardized administrative fees we charge to the public. We charge these fees to recover our full costs when we provide information and related services for non-program purposes. We are announcing an update to the previously published schedule of standardized administrative fees.²

¹ 77 FR 50757, Aug. 22, 2012.

² 79 FR 59341, October 1, 2014.

The updated standard fee schedule is part of our continuing effort to standardize fees for non-program information requests. Standard fees provide consistency and ensure we recover the full cost of supplying information when we receive a request for a purpose not directly related to the administration of a program under the Social Security Act (Act).

DATES: The changes described in this notice are effective for requests we receive on or after October 1, 2016.

FOR FURTHER INFORMATION CONTACT: Kristina Poist, Social Security Administration, Office of Finance, 6401 Security Boulevard, Baltimore, MD 21235-6401, (410) 597-1977. For information on eligibility or filing for benefits, visit our Internet site, Social Security Online, at http://socialsecurity.gov, or call our national toll-free number, 1-800-772-1213 or TTY 1-800-325-0778.

SUPPLEMENTARY INFORMATION: Section 1106 of the Act and the Privacy Act ³ authorize the Commissioner of Social Security to promulgate regulations regarding agency records and information and to charge fees for providing information and related services. Our regulations and operating instructions identify when we will charge fees for information.⁴ Under our regulations, whenever we determine a request for information is for any purpose not directly related to the administration of the Social Security programs, we require the requester to pay the full cost of providing the information.

³ 42 U.S.C. 1306 and 5 U.S.C. 552a, respectively.

⁴ See 20 CFR 402.170, 402.175; Program Operations Manual System (POMS) GN 03311.005.

New Information: We are required to review and update standardized administrative fees at least every two years. Based on the most recent cost analysis, the following table provides the new schedule of standardized administrative fees per request:

Copying an Electronic Folder | $43
Copying a Paper Folder | 72
Regional Office Certification ⁵ | 51
Record Extract | 32
Third Party Manual SSN Verification | 30
Office of Central Operations Certification ⁶ | 33
W2/W3 Requests | 86
Request for Copy of Original Application for Social Security Card (Form SS-5) | 21
Request for Computer Extract of Social Security Number Application (Numident) | 27

We will continue to evaluate all standard fees at least every two years to ensure we capture the full costs associated with providing information for nonprogram-related purposes. We require nonrefundable advance payment of the standard fee by check, money order, or credit card. We do not accept cash. Only one form of payment is acceptable in the full amount of the standard fee. If we revise any of the standard fees, we will publish another notice in the Federal Register. For other non-program requests for information not addressed here or within the current schedule of standardized administrative fees, we will continue to charge fees calculated on a case-by-case basis to recover our full cost of supplying the information. No other changes will apply to the schedule of standardized administrative fees announced in the Federal Register ¹ on August 22, 2012.

⁵ Requests received in a field office, regional office, or headquarters component.

⁶ Requests received in the Office of Central Operations.

Additional Information

Additional information is available on our Web site at http://socialsecurity.gov/pgm/business.htm or by written request to: Social Security Administration, Office of Public Inquiries, Windsor Park Building, 6401 Security Boulevard, Baltimore, MD 21235.

Carolyn W. Colvin,
Acting Commissioner of Social Security.

[FR Doc. 2016-23739 Filed 9-29-16; 8:45 am]

BILLING CODE 4191-02-P